DEPARTMENT OF HEALTH AND HUMAN SERVICES

Establishment of the Office of Environmental Justice

AGENCY: Office of the Assistant Secretary for Health, Office of the Secretary, Department of Health and Human Services.

ACTION: Notice.

SUMMARY: The Office of the Assistant Secretary for Health (OASH) has modified its structure. This notice announces the establishment of the Office of Environmental Justice in OASH's Office of Climate Change and Health Equity.

DATES: This reorganization was approved by the Secretary of Health and Human Services and takes effect May 31, 2022.

SUPPLEMENTARY INFORMATION: Statement of Organization and Functions, Part A, Office of the Secretary, Statement of Organization and Function for the U.S. Department of Health and Human Services (HHS or the Department) is being amended at Chapter AC, Office of the Assistant Secretary for Health (OASH), as last amended at 86 FR 48745, dated August 31, 2021, 75 FR 53304, dated August 31, 2010, and 72 FR 58095-96, dated October 12, 2007.

Background: Executive Order 14008, Tackling the Climate Crisis at Home and Abroad, directs agencies, including Department of Health and Human Services to make achieving environmental justice part of its mission by developing programs, policies, and activities to address the disproportionately high and adverse human health, environmental, and climate-related and other cumulative impacts on disadvantaged communities. This amendment reflects the establishment of an office to coordinate and provide expertise to support the Department's efforts to protect the health of disadvantaged communities and vulnerable populations on the frontlines of pollution and environmental hazards. Specifically, the changes are as follows:

A. Under Part A, Chapter AC, under the Office of the Assistant Secretary for Health, add the following:

1. The Office of Environmental Justice (OEJ) is headed by a Director who reports to the Assistant Secretary for Health through the Director of the Office of Climate Change and Health Equity.

2. OEJ shall work with the Immediate Office of the Secretary, Staff Divisions, and Operating Divisions to focus on:

• Leading initiatives that integrate environmental justice in the HHS mission to improve health in disadvantaged communities and vulnerable populations across the nation.

• Supporting senior leadership at OASH and HHS on environmental justice and health issues.

• Developing and implementing an HHS-wide strategy on environmental justice and health.

• Coordinating annual HHS environmental justice reports.

• Providing expertise and coordination to the White House, Secretary of HHS, and federal agencies related to environmental justice deliverables and activities, including executive order implementation.

• Providing HHS Office of Civil Rights with environmental justice expertise to support compliance under Title VI of the Civil Rights Act of 1964.

• Promoting training opportunities to build an environmental justice workforce.

Xavier Becerra,
Secretary.

[FR Doc. 2022-11192 Filed 5-31-22; 8:45 am]

BILLING CODE 4150-03-P